SMALL BUSINESS ADMINISTRATION

[Declaration of Disaster #3597]

Commonwealth of Pennsylvania

Centre County and the contiguous counties of Blair, Cambria, Clearfield, Clinton, Huntingdon, Mifflin, and Union in the Commonwealth of Pennsylvania constitute a disaster area as a result of a fire that occurred on July 14, 2004. The fire destroyed the Academy Apartments in Bellefonte, Pennsylvania. Applications for loans for physical damage as a result of the disaster may be filed until the close of business on September 20, 2004, and for economic injury until the close of business on April 20, 2005, at the address listed below or other locally announced locations: U.S. Small Business Administration, Disaster Area 1 Office, 360 Rainbow Blvd., South 3rd Floor, Niagara Falls, NY 14303.

The interest rates are:

| Percent
For Physical Damage:
Homeowners with Credit Available Elsewhere | 5.750
Homeowners Without Credit Available Elsewhere | 2.875
Businesses with Credit Available Elsewhere | 5.500
Businesses and Non-Profit Organizations Without Credit Available Elsewhere | 2.750
Others (Including Non-Profit Organizations) with Credit Available Elsewhere | 4.875
For Economic Injury:
Businesses and Small Agricultural Cooperatives Without Credit Available Elsewhere | 2.750

The number assigned to this disaster for physical damage is 359705 and for economic injury is 9ZK900.

(Catalog of Federal Domestic Assistance Program Nos. 59002 and 59008)

Dated: July 20, 2004.
Hector V. Barreto,
Administrator.

[FR Doc. 04-17037 Filed 7-26-04; 8:45 am]

BILLING CODE 8025-01-P